DEPARTMENT OF THE INTERIOR

Bureau of Land Management

[WO-350-1430-EU-01-24-1A; OMB Approval Number 1004-0157]

Notice of Information Collection To Be Submitted to the Office of Management and Budget for Review Under the Paperwork Reduction Act

The Bureau of Land Management (BLM) has submitted the proposed collection of information listed below to the Office of Management and Budget (OMB) for approval under the provisions of the Paperwork Reduction Act (44 U.S.C. 3501 et seq.). On July 18, 2000, the BLM published a notice in the Federal Register (65 FR 44542) requesting comment on this proposed collection. The comment period ended on September 18, 2000. The BLM received no comments from the public in response to that notice. Copies of the proposed collection of information and related forms and explanatory material may be obtained by contacting the BLM information clearance officer at the telephone number listed below.

The OMB is required to responded to this request within 60 days but may respond after 30 days. For maximum consideration your comments and suggestions on the requirement should be made within 30 days directly to the Office of Management and Budget, Interior Department Desk Officer (1004-0157), Office of Information and Regulatory Affairs, Washington, DC 20503. Please provide a copy of your comments to the Bureau Clearance Officer (WO-630), 1849 C St., NW., Mail Stop 401 LS, Washington, DC 20240.

Nature of Comments: We specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated electronic, mechanical, or other forms of information technology.

Title: Cost Reimbursement for Rights-of-Way Grants under the Federal Land Policy and Management Act of 1976.

OMB Approval Number: 1004-0157.

Bureau Form Number: No Form.

Abstract: Rights-of-way applicants supply information to aid the BLM in determining if they are entitled to a set-off against reimbursement of costs to the Government and the reasonable level of any such set-off, pursuant to 43 CFR 2808.3.

Frequency: Once.

Description of Respondents: Applicants who believe that they are eligible for reimbursement reductions for public benefit or service aspects of the proposed right-of-way project.

Estimated Completion Time: 3.

Annual Responses: 80.

Annual Burden Hours: 240.

Bureau Clearance Officer: Michael Schwartz, (202) 452-5033.

Dated: October 19, 2000.
Michael Schwartz,
BLM Information Collection Clearance Officer.

[FR Doc. 00-27282 Filed 10-23-00; 8:45 am]

BILLING CODE 4310-84-M